DEPARTMENT OF COMMERCE

International Trade Administration

Manufacturing & Services' Sustainable Manufacturing Initiative; Update

ACTION: Notice of updates and e-mail list sign-up.

SUMMARY: The International Trade Administration's Manufacturing & Services Unit held a Sustainable Manufacturing Initiative event on September 27, 2007. Manufacturing & Services is notifying the public of outcomes of the September 2007 event and of this initiative's dynamic Web presence and e-mail list sign-up.

DATES: N/A.

ADDRESSES: N/A.

FOR FURTHER INFORMATION CONTACT: Matthew Howard in Manufacturing & Services' Office of Trade Policy Analysis, 202-482-3703.

SUPPLEMENTARY INFORMATION: Sustainable manufacturing practices in the United States have become increasingly popular in recent years as companies look for new ways to make more efficient use of resources, ensure compliance with domestic and international regulations related to environment and health, and enhance the marketability of their products and services. As the trend towards sustainable manufacturing practices grows, so do its implications for U.S. global competitiveness and firm profitability.

At the Department of Commerce, one of our main goals is to foster domestic and international conditions for doing business that allow U.S. firms to successfully compete internationally. Evidence has shown that firms incorporating both environmentally and economically sustainable manufacturing processes can gain competitive advantages by achieving inherent cost savings (i.e., improving their energy efficiency, minimizing raw materials usage, etc.) while at the same time reaping societal benefits for being good stewards of the environment. Many U.S. firms have demonstrated that being environmentally sustainable can also mean being profitable.

In order to provide effective and continued support to U.S. companies in their sustainable manufacturing efforts, Commerce's Manufacturing & Services (MAS) unit has launched a Sustainable Manufacturing Initiative and Public-Private Dialogue that aims to (a) identify U.S. industry's most pressing sustainable manufacturing challenges and (b) coordinate public and private sector efforts to address these challenges.

MAS received a great deal of constructive individual feedback from U.S. industry at its September 27, 2007 “Enhancing U.S. Competitiveness Through Sustainable Manufacturing: A Public-Private Dialogue” event. Participants from both the public and private sectors agreed that sustainable manufacturing is an area where the United States must continue to increase its global competitive advantage, both in its ability to develop and utilize cleaner, more energy-efficient technologies and in its ability to implement manufacturing practices that are cost-effective and environmentally sound.

MAS has developed a dynamic Web presence to help keep the public informed of news on the Sustainable Manufacturing Initiative. Information on this initiative can be found at: http://trade.gov/competitiveness/sustainablemanufacturing/index.asp.

This Web site features an e-mail list sign-up function where interested companies and individuals may sign-up for news and other updates on Manufacturing & Services' Sustainable Manufacturing Initiative.

To help maintain and enhance forward momentum on this initiative and continue the follow-up to the September 2007 event, MAS plans to take on four specific efforts in response to U.S. industry requests for USG action on the topic of sustainable manufacturing:

1. Establishment of an Interagency Task Force on Sustainable Manufacturing. To help maximize the value of complementary sustainable manufacturing efforts by various federal agencies as well as ensure the continuity of the MAS Sustainable Manufacturing Initiative, MAS is proposing to establish and chair an interagency task force on sustainable manufacturing. Comprised of representatives of interested federal agencies, this task force will be responsible for carrying out projects identified through the public-private dialogue as U.S. industry priorities.

2. Creation of a Central Online Clearinghouse of USG Programs and Resources That Support Sustainable Business. There are numerous U.S. government (USG) programs currently available to support sustainable business practices in the United States; however, there is currently no single portal yet available to the public that catalogs these many programs. To begin consolidating this information, Commerce will begin working with other federal agencies via the interagency task force to launch an online clearinghouse that U.S. companies can use to identify the USG programs and resources that are right for them. MAS has already begun developing the clearinghouse, which can be found at the following Web address (please note this is not the final product, but merely a starting point and it is not intended to be a comprehensive listing of all relevant USG resources in support of U.S. industry's sustainable manufacturing efforts): http://trade.gov/competitiveness/sustainablemanufacturing/USG_PRS_Sustainable_Business.asp.

3. Leading Domestic Trade Missions to Promote Sustainable Manufacturing. Numerous U.S. companies have voiced concerns over the lack of visibility sustainable manufacturing receives nationwide and the lack of information U.S. manufacturers possess in this field. In order to continue spreading awareness of sustainable manufacturing's benefits, both to U.S. global competitiveness and the environment, MAS proposes and is currently exploring the feasibility of a domestic trade mission in the United States, leading small and medium-size business owners on a site tour of some of the leading sustainable manufacturers in the country.

4. Creation of Metrics for Sustainable Manufacturing. Efforts in response to U.S. industry requests for metrics that can be used to measure the economic, environmental and social impacts of sustainable manufacturing have been underway between the U.S. Department of Commerce and the Organization for Economic Cooperation and Development (OECD) since 2005. Commerce has submitted a proposal to the OECD for a study that would propose a series of metrics to help businesses measure sustainable manufacturing's cost-effectiveness as well as its benefits to the environment and society as a whole. This proposal has been accepted by the OECD and work on this study is expected to commence in the spring of 2008. The Department of Commerce is also seeking U.S. industry representation on a newly created OECD Sustainable Manufacturing Experts Group that will help to oversee and guide the aforementioned study. Interested companies should contact the Manufacturing & Services' Office of Trade Policy Analysis at the number listed above.

Dated: April 9, 2008.
Matthew Howard,
Office of Trade Policy Analysis.

[FR Doc. E8-8359 Filed 4-17-08; 8:45 am]

BILLING CODE 3510-DR-P